DEPARTMENT OF LABOR

Employment and Training Administration

[TA-W-57,663]

Kyocera Tycom Corporation, Owego, NY; Notice of Termination of Investigation

Pursuant to Section 221 of the Trade Act of 1974, as amended, an investigation was initiated on August 3, 2005 in response to a petition filed by a company official on behalf of workers of Kyocera Tycom, Owego, New York.

The petitioner has requested that the petition be withdrawn. Consequently, the investigation has been terminated.

Signed at Washington, DC, this 12th day of September, 2005.
Linda G. Poole,
Certifying Officer, Division of Trade Adjustment Assistance.

[FR Doc. E5-5299 Filed 9-27-05; 8:45 am]

BILLING CODE 4510-30-P